DEPARTMENT OF HEALTH AND HUMAN SERVICES

Health Resources and Services Administration

Agency Information Collection Activities: Proposed Collection: Public Comment Request; Information Collection Request Title: COVID-19 Provider Relief Fund Reporting Activities, OMB No. 0906-XXXX New

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than September 24, 2021.

ADDRESSES: Submit your comments to paperwork@hrsa.gov or mail the HRSA Information Collection Clearance Officer, Room 14N136B, 5600 Fishers Lane, Rockville, MD 20857.

FOR FURTHER INFORMATION CONTACT: To request more information on the proposed project or to obtain a copy of the data collection plans and draft instruments, email paperwork@hrsa.gov or call Lisa Wright-Solomon, the HRSA Information Collection Clearance Officer at (301) 443-1984.

SUPPLEMENTARY INFORMATION: When submitting comments or requesting information, please include the information request collection title for reference.

Information Collection Request Title: COVID-19 Provider Relief Fund Reporting Activities, OMB No. 0906-XXXX New.

Abstract: HRSA administers the Provider Relief Fund (PRF), which has disbursed funds to eligible health care providers to support health care-related expenses or lost revenues attributable to the COVID-19 pandemic. Providers who have accepted the Terms and Conditions regarding their PRF payment(s), including the requirement that the provider “shall submit reports as the Secretary determines are needed to ensure compliance with conditions that are imposed on this Payment, and such reports shall be in such form, with such content, as specified by the Secretary in future program instructions directed to all Recipients,” will be using the PRF Reporting Portal to submit information about their use of PRF payments. HRSA is currently operating under the Paperwork Reduction Act Public Health Emergency (PHE) waiver that was approved by the Office of the Assistant Secretary for Planning and Evaluation on January 14, 2021. In anticipation of the PHE waiver expiring, HRSA is undergoing the OMB clearance process as the data will be collected beyond the PHE.

Need and Proposed Use of the Information: Recipients of a PRF payment agreed to a set of Terms and Conditions, which, among other requirements, mandate compliance with certain reporting requirements that will facilitate appropriate oversight of recipients' use of funds.

Information collected will allow for (1) assessing whether recipients have met statutory and programmatic requirements, (2) conducting audits, (3) gathering data required to report on findings with respect to the disbursements of PRF payments, and (4) program evaluation. HRSA staff will also use information collected to identify and report on trends in health care metrics and expenditures before and during the allowable period for expending PRF payments.

Likely Respondents: PRF recipients who have received more than $10,000 in aggregate PRF payments during one of the Payment Received Periods outlined below and that agreed to the associated Terms and Conditions are required to submit a report in the PRF Reporting Portal during the applicable Reporting Time Period.

Reporting period | Payment received period (payments exceeding $10,000 in aggregate received) | Reporting time period
Period 1 | April 10, 2020, to June 30, 2020 | July 1, 2021, to September 30, 2021.
Period 2 | July 1, 2020, to December 31, 2020 | January 1, 2022, to March 31, 2022.
Period 3 | January 1, 2021, to June 30, 2021 | July 1, 2022, to September 30, 2022.
Period 4 | July 1, 2021, to December 31, 2021 | January 1, 2023, to March 31, 2023.

Burden Statement: Burden in this context means the time expended by persons to generate, maintain, retain, disclose or provide the information requested. This includes the time needed to review instructions; to develop, acquire, install, and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
PRF Reporting Portal, Reporting Period 1 (Providers who received payments April 10, 2020, to June 30, 2020) | 126,831 | 1 | 126,831 | 5.6 | 710,254
PRF Reporting Portal, Reporting Period 2 (Providers who received payments July 1, 2020, to December 31, 2020) | 120,536 | 1 | 120,536 | 4.2 | 506,251
PRF Reporting Portal, Reporting Period 3 (Providers who received payments January 1, 2021, to June 30, 2021) | 19,962 | 1 | 19,962 | 5.6 | 111,787
PRF Reporting Portal, Reporting Period 4 (Providers who received payments July 1, 2021, to December 31, 2021) | 19,962 | 1 | 19,962 | 5.6 | 111,787
Total | 287,291 |  | 287,291 |  | 1,440,079

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Maria G. Button,
Director, Executive Secretariat.

[FR Doc. 2021-15885 Filed 7-23-21; 8:45 am]

BILLING CODE 4165-15-P